DEPARTMENT OF TRANSPORTATION

Federal Aviation Administration

14 CFR Part 95

[Docket No. 30453; Amdt. No. 456]

IFR Altitudes; Miscellaneous Amendments

AGENCY: Federal Aviation Administration (FAA), DOT.

ACTION: Correction.

SUMMARY: This action corrects errors in certain amendments to the required IFR (instrument flight rules) altitudes and changeover points for certain Federal airways, jet routes, or direct routes for which a minimum or maximum en route authorized IFR altitude is prescribed listed in a final rule published in the Federal Register on August 2, 2005 (70 FR 44278).

EFFECTIVE DATE: 0901 UTC, September 1, 2005.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION:

History

On August 2, 2005 final rule was published in the Federal Register (70 FR 44278). This rule amended part 95 of the Federal Aviation Regulations (14 CFR part 95) by amending, suspending, or revoking IFR altitudes governing the operation of all aircraft in flight over a specified route or any portion of that route, as well as the changeover points (COPs) for Federal airways, jet routes, or direct routes as prescribed in part 95. In these amendments, the FAA inadverdantly listed seven High Altitude RNAV Q Routes with GNSS MEAs only, failing to include DME/DME IRU RNAV MEAs. This action corrects that error.

Correction to Final Rule

Accordingly, and pursuant to the authority delegated to me, the legal descriptions for 94.4104 (Q104), 95.4106 (Q106), 95-4108 (Q108), 95.4110 (Q110), 95.4112 (Q-112), 95.4116 (Q-116), and 95.4118 (Q118) as published in the Federal Register on August 2, 2005 (70 FR 44278) and incorporated by reference in part 95 are corrected as follows:

PART 95—[CORRECTED]

Correction to Revisions to IFR Altitudes & Changeover Points
[Amendment 456 Effective Date September 01, 2005]
From | To | MEA | MAA
§ 95.4000 High Altitude RNAV Routes
§ 95.4104 RNAV Route Q104 Is Added to Read
Cypress, FL VOR/DME | Defun, FL FIX | #*18000 | 45000
*18000—GNSS MEA
#18000—DME/DME IRU RNAV MEA
§ 95.4106 RNAV Route Q106 Is Added to Read
Smelz, FL FIX | Gaday, AL FIX | #*18000 | 45000
*18000—GNSS MEA
#18000—DME/DME IRU RNAV MEA
§ 95.4108 RNAV Route Q108 Is Added to Read
Gaday, AL FIX | Clawz, GA FIX | #*18000 | 45000
*18000—GNSS MEA
#18000—DME/DME IRU RNAV MEA
§ 95.4110 RNAV Route Q110 Is Added to Read
Kpasa, FL FIX | Feona, GA FIX | #*18000 | 45000
*18000—GNSS MEA
#18000—DME/DME IRU RNAV MEA
§ 95.4112 RNAV Route Q112 Is Added to Read
Inpin, FL FIX | Defun, FL FIX | #*18000 | 45000
*18000—GNSS MEA
#18000—DME/DME IRU RNAV MEA
§ 95.4116 RNAV Route Q116 Is Added to Read
Kpasa, FL FIX | Ceeya, GA FIX | #*18000 | 45000
*18000—GNSS MEA
#18000—DME/DME IRU RNAV MEA
§ 95.4118 RNAV Route Q118 Is Added to Read
Kpasa, FL FIX | Lenie, GA FIX | #*18000 | 45000
*18000—GNSS MEA
#18000—DME/DME IRU RNAV MEA

John M. Allen,
Acting Director, Flight Standards Service.

[FR Doc. 05-17476 Filed 8-31-05; 8:45 am]

BILLING CODE 4910-13-P